OFFICE OF THE UNITED STATES TRADE REPRESENTATIVE

[Docket Number USTR-2023-0004]

Request for Comments on Advancing Inclusive, Worker-Centered Trade Policy

AGENCY: Office of the U.S. Trade Representative (USTR).

ACTION: Notice; request for comments.

SUMMARY: The Office of the U.S. Trade Representative is exploring how trade and investment policy may be designed to expand the benefits of trade to include underserved and marginalized communities here in the United States and with trading partners who share concerns about rising inequality. In order to develop inclusive objectives and positions in all trade and investment policy areas for both enhanced engagement and subsequent negotiations, the Office of the U.S. Trade Representative invites public comments.

DATES: The deadline for submission of written comments is August 11, 2023. Comments received after this date will be considered for future advisory, communication, and outreach efforts to the extent practicable.

ADDRESSES: USTR strongly prefers electronic submissions made through the Federal eRulemaking Portal: https://www.regulations.gov. For alternatives to on-line submissions, please contact Megan Paster, in advance of the deadline at InclusiveTrade@USTR.EOP.GOV.

FOR FURTHER INFORMATION CONTACT: Issues regarding submissions or questions about this request for comments should be sent to Megan Paster at (202) 395-6116 or InclusiveTrade@USTR.EOP.GOV.

SUPPLEMENTARY INFORMATION:

I. Background

The President's Trade Agenda now includes the ambition for all U.S. trade policy tools, engagements, and new trade initiatives to incorporate and reflect the core principles outlined in the President's Executive Order (E.O.) 13985 on Advancing Racial Equity and Support for Underserved Communities Through the Federal Government and E.O. 14025 on Worker Organizing and Empowerment; the United States inaugural National Strategies on Gender Equity and Equality and to Advance Equity, Justice, and Opportunity for Asian American, Native Hawaiian, and Pacific Islander Communities; and the Presidential Memoranda on Tribal Consultation and Strengthening the Nation-to-Nation Relationships and Advancing the Human Rights of Lesbian, Gay, Bisexual, Transgender, Queer, and Intersex Persons Around the World.

Additionally, the U.S. Trade Representative co-chairs the White House Initiative and President's Advisory Commission on Asian Americans, Native Hawaiians, and Pacific Islanders and serves on the White House Council on Native American Affairs and the Gender Policy Council.

To inform the development of inclusive, worker-centered trade policy and investment, USTR seeks comments and recommendations on trade and investment policy actions, including responsible business conduct, to advance racial and gender equity and support for historically underserved communities.

Definitions. Consistent with E.O. 13985 and previously referenced National Strategies and Presidential Memoranda, this request for public comment supports the effort to “pursue a comprehensive approach to advancing equity for all, including people of color and others who have been historically underserved, marginalized, and adversely affected by persistent poverty and inequality” and uses the following definitions:

(a) The term “equity” means the consistent and systematic fair, just, and impartial treatment of all individuals, including individuals who belong to underserved communities that have been denied such treatment, such as women and girls; Black, Latino, and Indigenous and Native American persons, Asian Americans, Native Hawaiians, and Pacific Islanders and other persons of color; members of religious minorities; lesbian, gay, bisexual, transgender, queer, and intersex (LGBTQI+) persons; persons with disabilities; persons who live in rural areas; and persons otherwise adversely affected by persistent poverty or inequality.

(b) The term “underserved communities” refers to populations sharing a particular characteristic, as well as geographic communities, that have been systematically denied a full opportunity to participate in aspects of economic, social, and civic life, as exemplified by the list in the preceding definition of “equity.”

(c) In addition, the term “interested parties” involves any individual or organization that believes it has interest in international trade, including but not limited to: labor, environmental, business (including micro, small, and medium-sized enterprises), consumer organizations, think tanks, civil society, and academia (including Historically Black Colleges and Universities, Tribal Colleges and Universities, Hispanic Serving Institutions, Asian American & Native American, Pacific Islander-Serving Institutions, and other minority serving institutions); local, State, Tribal, and Territorial authorities; civil, human rights, and faith-based organizations, and community-based organizations that represent the interests of women, Indigenous Peoples, persons with disabilities, rural and remote populations, members of racial, ethnic, or religious minorities, and LGBTQI+ persons; individuals and members of and organizations representing the interests of underserved communities.

II. Public Comment

USTR invites interested parties to submit comments to inform the development of inclusive objectives and positions on all trade and investment policy areas. Interested parties may provide inclusive trade and investment policy comments regarding a specific group or a combination of members of underserved communities.

Responses should:

Be written in clear, concise, and plain language;

Not include any information that cannot be made publicly available;

Not exceed 10 pages;

Include the name of the individual and organization responding and a brief description of the responding individual or organization; and

If applicable, identify the specific question(s) addressed in the submission.

In submitting comments, parties are invited to consider any or all of the following questions.

What meaningful and substantive trade policies, actions, or provisions should policy and decision makers consider that would advance racial and gender equity, equality, and empowerment in U.S. trade and investment policy? If applicable, what existing tools can be better utilized for these goals?

What new and innovative tools, structures, and capacity should the U.S. Government adopt to advance inclusive trade and investment policy? Please identify data gaps that, if addressed, would be most helpful in undertaking meaningful impact analysis.

How can trade and investment policy address multiple, intersecting barriers to advancing equity for underserved persons (e.g., rural communities, race/ethnicity, gender, and persons with disabilities)?

What best practices should USTR consider to ensure that advancing equity, equality, and economic empowerment is standardized in community and stakeholder engagement regarding the development and implementation of U.S. trade and investment policy?

Are there specific engagement and consultation considerations and/or processes that policy makers should consider in incorporating equity into U.S. trade and investment policy?

What key actions should the U.S. Government pursue with trade partners and allies to ensure that the benefits from trade and investment policy reach underserved communities?

Are there trade policies, provisions, or actions which are detrimental to advancing racial and gender equity, equality, and economic empowerment? If so, please specify the relevant policy, program, and/or provision, and if available, provide data or analysis that would be useful evidence of this detrimental effect. Do you have a recommendation for how this should be corrected?

How can trade policymaking better respond to the specific interests of different U.S. regions and local communities?

III. Requirements for Submissions

You must submit comments by the August 11, 2023 deadline. You must make all submissions in English via Regulations.gov, using Docket Number USTR-2023-0004. USTR prefers submissions in Microsoft Word (.doc) or Adobe Acrobat (.pdf). If the submission is in an application other than those two, please indicate the name of the application in the `type comment' field. USTR will not accept hand-delivered submissions.

To make a submission using Regulations.gov, enter Docket Number USTR-2023-0004 in the `search for' field on the home page and click `search.' The site will provide a search results page listing all documents associated with this docket. Find a reference to this notice by selecting `notice' under `document type' in the `refine documents results' section on the left side of the screen and click on the link entitled `comment.' The Regulations.gov website offers the option of providing comments by filling in a `comment' field or by attaching a document using the `attach files' field.

USTR prefers that you provide submissions in an attached document and note `see attached' in the `comment' field on the online submission form. At the beginning of the submission, or on the first page (if an attachment) include the following: `Advancing Inclusive, Worker-Centered Trade Policy.' Include any cover letters, exhibits, annexes, or other attachments to the submission in the same file as the submission itself, and not as separate files.

You will receive a tracking number upon completion of the submission procedure at Regulations.gov. The tracking number is confirmation that Regulations.gov received the submission. Keep the confirmation for your records. USTR is not able to provide technical assistance for Regulations.gov. USTR may not consider documents that you do not submit in accordance with these instructions.

If you are unable to provide submissions as requested, please contact Megan Paster in advance of the deadline at (202) 395-6116 or InclusiveTrade@USTR.EOP.GOV to arrange for an alternative method of transmission.

USTR will place comments in the docket for public inspection. General information concerning USTR is available at www.ustr.gov.

Jamila Thompson,
Senior Advisor to the U.S. Trade Representative, Office of the U.S. Trade Representative.

[FR Doc. 2023-12446 Filed 6-9-23; 8:45 am]

BILLING CODE 3390-F3-P